DEPARTMENT OF THE INTERIOR

Fish and Wildlife Service

50 CFR Part 17

RIN 1018-AI68

Endangered and Threatened Wildlife and Plants; Listing of the Central California Distinct Population Segment of the California Tiger Salamander; Reclassification of the Sonoma County and Santa Barbara County Distinct Populations From Endangered to Threatened; Special Rule

AGENCY: Fish and Wildlife Service, Interior.

ACTION: Proposed rule; extension of comment period and notice of public hearings.

SUMMARY: We, the U.S. Fish and Wildlife Service, are extending the comment period on a proposed rule that would: (1) List the Central California distinct population segment (DPS) of the California Tiger Salamander (Ambystoma californiense) as a threatened species under the Endangered Species Act of 1973, as amended (Act) (16 U.S.C. 1531 et seq.); (2) reclassify the Sonoma County and Santa Barbara County DPSs of the California Tiger Salamander from endangered to threatened; and (3) exempt, under section 4(d) of the Act, existing routine ranching activities on private or Tribal lands from section 9 prohibitions for the three DPSs of the California tiger salamander. Comments previously submitted need not be resubmitted as they will be incorporated into the public record as part of this extended comment period, and will be fully considered in the final rule. We are also providing two additional public hearings to receive oral comments on this proposed rule.

DATES: Comments and information from all interested parties will be accepted until 5 p.m. on September 22, 2003. We will hold public hearings at the following times:

(1) Tuesday, July 29, 2003, in Santa Rosa, California. Two sessions: 1 p.m. until 3 p.m. and 6 p.m. until 8 p.m. Registration will begin at 12:30 p.m. for the afternoon session and at 5:30 p.m. for the evening session.

(2) Thursday, July 31, 2003, in Santa Maria, California. Two sessions: 1 p.m. until 3 p.m. and 6 p.m. until 8 p.m.. Registration will begin at 12:30 p.m. for the afternoon session and at 5:30 p.m. for the evening session.

ADDRESSES:

(1) You may submit written comments to the Field Supervisor (Attn: CTS), U.S. Fish and Wildlife Service, Sacramento Fish and Wildlife Office, 2800 Cottage Way, Suite W-2605, Sacramento, CA 95825.

(2) You may send comments by electronic mail (e-mail) to: catiger@R1.fws.gov. See the “Public Comments Solicited” section below for file format and other information on electronic filing.

(3) You may hand-deliver comments to our Sacramento Fish and Wildlife Office at the address above.

(4) You may make oral comments at a public hearing. Such oral comments will be transcribed and given weight equal to that of written comments.

We will hold public hearings at the Flamingo Resort Hotel and Conference Center, 2777 Fourth St., Santa Rosa, CA, and at the Radisson Hotel Santa Maria, 3455 Skyway Dr., Santa Maria, CA.

Comments and materials received, as well as supporting documentation used in the preparation of the proposed rule, will be available for public inspection, by appointment, during normal business hours, at the above address. You may obtain copies of the proposed rule from the above address, by calling (916) 414-6600, or from our Web site at http://sacramento.fws.gov.

FOR FURTHER INFORMATION CONTACT: Adam Zerrenner or Glen Tarr, Sacramento Fish and Wildlife Office, 2800 Cottage Way Room W-2605, Sacramento, CA 95825 (telephone (916) 414-6600, facsimile (916) 414-6713, or visit our Web site at http://sacramento.fws.gov/). Information regarding this proposal is available in alternative formats upon request.

SUPPLEMENTARY INFORMATION:

Background

On May 23, 2003, we published a proposed rule to list the central California DPS of the California tiger salamander as a threatened species (68 FR 28647). The rule also proposed to reclassify the Sonoma County and Santa Barbara County DPSs from endangered to threatened, and to exempt, under section 4(d) of the Act, existing routine ranching activities from “take” prohibitions under section 9 of the Act for the three DPSs. For further information regarding background biological information, previous Federal actions, factors affecting the subspecies, and conservation measures available to these three DPSs of the California tiger salamander, please refer to this proposed rule.

Public Comments Solicited

We intend that any final action resulting from this proposal will be as accurate and as effective as possible. Therefore, we are soliciting comments from the public, other concerned governmental agencies, the scientific community, industry, or any other interested party concerning this proposed rule. We are particularly seeking comments concerning:

(1) Biological, commercial trade, or other relevant data concerning any threat (or lack thereof) to the California tiger salamander;

(2) The location of any additional subpopulations or breeding sites of this species, and the reasons why any habitat should or should not be determined to be critical habitat pursuant to section 4 of the Act;

(3) Additional information concerning the range, distribution, and population sizes of this species;

(4) Current or planned activities or land use practices in the subject area and their possible impacts on this animal; and

(5) Additional information pertaining to the promulgation of a special rule to exempt from section 9 take prohibitions existing routine ranching practices located on private and Tribal lands.

Previously submitted comments need not be resubmitted. If you submit comments by electronic mail (e-mail), please submit them as an ASCII file and avoid the use of special characters and any form of encryption. Please also include “Attn: RIN 1018-AI68” and your name and address in your e-mail message. If you do not receive a confirmation from the system that we have received your e-mail message, contact us directly by calling the Sacramento Fish and Wildlife Office (see ADDRESSES).

Anyone wishing to make an oral comment or statement for the record at one of the hearings listed above is encouraged (but not required) to also provide a written copy of the statement and present it to us at the hearing. In the event there is a large attendance, the time allotted for oral statements may be limited. Oral and written statements receive equal consideration. There are no limits to the length of written comments presented at the hearing or mailed, faxed, or e-mailed to us. Legal notices announcing the date, time, and location of the public hearing will be published in newspapers concurrently with this Federal Register notice.

Persons needing reasonable accommodations in order to attend and participate in a public hearing should contact Patti Carroll at 503/231-2080 as soon as possible. In order to allow sufficient time to process requests, please call no later than 1 week before the hearing date.

Author

The primary authors of this notice are Chris Nagano, Chief, Endangered Species Division and Glenn Tarr, Acting Chief, Listing Branch (see ADDRESSES).

Authority

The authority for this action is the Endangered Species Act of 1973 (16 U.S.C. 1531 et seq.).

Dated: June 19, 2003.
Thomas O. Melius,
Acting Director, Fish and Wildlife Service.

[FR Doc. 03-16881 Filed 7-2-03; 8:45 am]

BILLING CODE 4310-55-P